DEPARTMENT OF COMMERCE

Census Bureau

2006 Census Test Group Quarters Advance Visit

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before June 10, 2005.

ADDRESSES: Direct all written comments to Diana Hynek, Departmental Paperwork Clearance Officer, Department of Commerce, Room 6625, 14th and Constitution Avenue, NW., Washington, DC 20230 (or via the Internet at DHynek@doc.gov).

FOR FURTHER INFORMATION CONTACT: Requests for additional information or copies of the information collection instrument(s) and instructions should be directed to Annetta C. Smith, U.S. Census Bureau, Building 2, Room 2102, Washington, DC 20233-9200, telephone number (301) 763-1348.

SUPPLEMENTARY INFORMATION:

I. Abstract

The Census Bureau strives to provide everyone in the United States—including persons who live or stay in group quarters (GQs—see Definition of Terms)—the opportunity to be counted in the decennial census. For the 2010 Census, we plan to implement an integrated series of operations that are designed to improve upon Census 2000 methodology by:

• Developing a comprehensive list of all GQs, such as nursing homes, college residence halls, jails, and shelters for people experiencing homelessness. We plan to accomplish this goal by (1) using administrative records to update the current list of group quarters, (2) implementing the Address Canvassing (see Definition of Terms) operation, and (3) implementing the Group Quarters Validation Operation (see below for a description of this operation),

• Conducting an Advance Visit to every GQ in order to provide information about the upcoming enumeration and to obtain information that will enable the Census Bureau to prepare to enumerate the residents of the GQ, and

• Conducting the actual enumeration of the GQ population.

Background

During Census 2000, the Census Bureau conducted the Special Place (see Definition of Terms) Facility Questionnaire operation to develop an inventory of special place/group quarters facilities. This operation was designed to identify, verify, classify, and obtain pertinent enumeration information about every group quarters. After the Special Place Facility Questionnaire operation, crew leaders made an Advance Visit to each identified Special Place except for T-Night (Transient Enumeration—see Definition of Terms) and Targeted Non-Sheltered Outdoor Locations (see Definition of Terms) to speak to the contact person about conducting the enumeration at each identified group quarters. The Advance Visit was designed to:

• Inform the Special Place contact person about Census 2000 and explain how the enumeration would be conducted,

• Verify that all GQs in the Special Place were identified,

• Update existing information about each GQ (e.g., facility name, address, geocode, and GQ contact person's name),

• Update the expected population count for each GQ so that sufficient materials could be prepared. The expected count also served as one quality check on the actual enumeration,

As a result of lessons learned from Census 2000, we have developed the following plans toward improving data quality and coverage for GQs in the 2010 Census:

• Address Canvassing—An operation that identifies the Other Living Quarters (see Definition of Terms) for inclusion in the Group Quarters Validation operation. This operation will ensure the integration of GQ addresses and housing units address into a single Master Address File. In contrast, in Census 2000, we developed two separate address lists—one for GQs and one for housing units—which sometimes resulted in address duplication.

• Group Quarters Validation—We developed the Group Quarters Validation operation to classify the Other Living Quarters as either housing units or GQs. A questionnaire was designed for this purpose, to assign a GQ type code, and to collect basic contact information about the GQ. This operation was implemented for the first time as part of the 2004 Census Test. See Federal Register: May 7, 2003 (Volume 68, Number 88) for more information. In 2006, we will implement a revised Group Quarters Validation operation that includes an improved and simplified questionnaire. See Federal Register: February 8, 2005 (Volume 70, Number 25) for more information about this operation;

Advance Visit—The 2006 Census Test Group Quarters Advance Visit operation will incorporate lessons learned from Census 2000 and the 2004 Group Quarters Validation operation. Changes to the Group Quarters Advance Visit operation that we will implement as part of the 2006 Census Test Group Quarters Advance Visit include:

○ Focusing on the GQ, rather than the Special Place. In Census 2000, the location of GQs was not verified, since the Special Place was the point of contact. As a consequence, the populations of some GQs were allocated to the wrong jurisdiction. We believe that validating GQ location will reduce geocoding errors;

○ Maintaining a control file so that the history of each GQ is available in order to reduce duplication of GQs. We believe that history of the GQ, which includes information such as the date of address updates will allow cross-checks for duplicated addresses.

The 2006 Census Test Group Quarters Advance Visit also will collect additional information about Service Based Enumeration facilities.

The 2006 Census Test Group Quarters Advance Visit, which supports the special place/group quarters test objectives and related research questions, will be conducted between February 15, 2006 and March 17, 2006.

II. Method of Collection

The universe for the 2006 Group Quarters Advance Visit will consist of the updated file records of GQs validated during the 2006 Census Test Group Quarters Validation operation. The universe for Group Quarters Validation will include all Other Living Quarters identified by the Address Canvassing operation, as well as GQs from Census 2000, Administrative records, and the Demographic Areas Address Listing (see Definition of Terms) that were not identified as other living quarters during the 2006 Address Canvassing operation. The Group Quarters Validation file, and therefore the 2006 Group Quarters Advance Visit file, will not include regularly scheduled mobile food vans or targeted non-sheltered outdoor locations. These locations are not in scope for the 2006 Census Test.

Each record in the 2006 Group Quarters Advance Visit file will contain information such as the GQ name, address, contact name, GQ type code, and maximum capacity. Some cases in this file will be marked “Management Attention”. This notation will indicate a GQ that is likely to require specialized procedures (e.g., a case in which the GQ contact person refused to provide required information during the 2006 Census Test Group Quarters Validation Operation), which we plan to test as part of the 2006 Group Quarters Advance Visit operation field procedures.

Enumerators for the 2006 Group Quarters Advance Visit will use the paper maps from the 2006 Census Test Group Quarters Validation operation to help them locate GQs, particularly those with non-city style address that were added by the Group Quarters Validation operation. When they have located a GQ, they will use the Advance Visit Interview Record to verify and collect information from the contact person. The Advance Visit Interview Record will contain the GQ name and address, geographic codes, and the contact's name and phone number. It will be used to set up an appointment for the actual GQ enumeration between April 3, 2006 to May 19, 2006 (if the facility will be open at that time) and to obtain an expected Census Day population.

In contrast to Census 2000, we plan to conduct two actual enumeration visits to each shelter and soup kitchen during the 2006 Service Based Enumeration operation. Consequently, in addition to the basic information collected for all GQs, enumerators for the 2006 Census Test Group Quarters Advance Visit operation who visit these types of facilities will ask the contact person which two days within the Service Based Enumeration time frame (March 20, 2006 to March 31, 2006) will be best for enumerating clients. The enumerator will document (with signature) the contact person's agreement to those dates. If the contact person does not want the Census Bureau to make the second visit, the enumerator will document (with signature) the reason for the refusal. If the contact person refuses permission for both visits, that information will be documented accordingly.

During the 2006 Census Test, the purpose of allowing a maximum of two visits to shelters and soup kitchens during the pre-determined enumeration time frame is to increase opportunities for the population that frequents these locations to be included in the census. However, doing so means that some persons may be counted twice (possibly at more than one location). As a consequence, we must study our ability to unduplicate these persons

Definition of Terms

Address Canvassing—A data collection operation designed to support the Census Bureau's efforts to compile the most accurate and comprehensive residential (housing units and group quarters) address list possible. For 2006, listers will verify, update, add, and delete address records in each census block within the Assignment Area, while also updating map features on the electronic map where Global Positioning System (GPS) is available. They also will capture coordinates for each living quarters via GPS or a manual method when GPS is not available, link duplicate addresses when they identify them and determining if a living quarters should be coded as a housing unit or as another living quarters for further review in the GQV operation.

Demographic Areas Address Listing—DAAL is a post-Census 2000 program designed to update the sample universe of housing units and group quarters for various demographic surveys. DAAL also is intended to update the inventory of housing units and features for selected areas of the country in order to improve the coverage and completeness of the MAF in preparation for the ACS sample selection.

Group Quarters (GQs)—Group quarters are places where people can live or stay that are normally owned or managed by an entity or organization providing housing and/or services for the residents. These services may include custodial or medical care, as well as other types of assistance, and residency is commonly restricted to those receiving these services. People living in them are usually not related to each other. Group quarters include such places as residential treatment centers, college residence halls, military barracks, skilled nursing facilities, correctional facilities, group homes, juvenile facilities, workers' dormitories, and facilities for people experiencing homelessness.

Housing Unit—A housing unit is a living quarters in which the occupants live separately from any other individuals in the building and have direct access to their living quarters from outside the building or through a common hall. Housing units are usually houses, apartments, mobile homes, groups of rooms or single rooms that are occupied as separate living quarters. They are residences for single individuals, groups of individuals, or families who live together. Although housing units may be vacant or occupied, non-traditional living quarters such as boats, RVs, and tents are considered to be housing units ONLY if someone is living in them and they are either the occupant's usual residence or the occupant has no usual residence. These non-traditional living arrangements are not considered to be housing units if they are vacant.

Other Living Quarters—Any address that does not meet the definition of a housing unit and has living quarters or has the potential of having living quarters. These could potentially be GQs of housing units requiring special enumeration procedures. Other living quarters include correctional facilities, college and university housing, religious group living quarters, dormitories for migrant workers, assisted living facilities, juvenile facilities, hotels/motels, RV parks, and campgrounds.

Special Place—In Census 2000, Special Places were defined as facilities containing one or more GQs where people live or stay, such as a college or university, hospitals, prisons, hotels, migrant or seasonal farm worker camps, or military installations or ships. While a special place usually consists of one or more group quarters, and may contain embedded or freestanding housing units, it may consist entirely of housing units (e.g., a campground that has only trailer, RV, and/or tent sites). Special Places also were establishments that are administratively responsible for one or more GQs.

Targeted Nonsheltered Outdoor Location—A geographically identifiable outdoor location, open to the elements, where there is evidence that people might be living without paying to stay and without receiving services at soup kitchens, shelters, or mobile food vans. The sites must have a specific location description that allows a census enumeration team to physically locate the site; for example, “under Brooklyn Bridge at the corner of Bristol Drive” or “700 block of Taylor Street behind Smith Warehouse.” These locations were enumerated during service-based enumeration for Census 2000. The following are not considered Targeted Nonsheltered Outdoor Locations: Pay-for-use campgrounds, drop-in centers, post offices, hospital emergency rooms, and commercial sites (including all-night theaters and all-night diners).

Transient Enumeration Places—Living quarters for people who have no usual home elsewhere. They were enumerated during Transient Night Enumeration. Examples include YMCAs, YWCAs, campgrounds at racetracks, recreational vehicle campgrounds and parks.

III. Data

OMB Number: None.

Form Number: DD-352.

Type of Review: Regular.

Affected Public: Individuals, businesses or other for-profit or not-for-profit institutions and small businesses or organizations.

Estimated Number of Respondents: 700 GQs in Travis County, Texas, and 20 GQs on the Cheyenne River Reservation.

Estimated Time Per Response: 20 minutes.

Estimated Total Annual Burden Hours: 240 hours.

Estimated Total Annual Cost: There is no cost to respondents except for their time to respond.

Respondent's Obligation: Mandatory.

Legal Authority: Title 13 U.S.C. 141 & 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 5, 2007.
Madeleine Clayton,
Management Analyst, Office of the Chief Information Officer.

[FR Doc. 05-7120 Filed 4-8-05; 8:45 am]

BILLING CODE 3510-07-P